DEPARTMENT OF COMMERCE

International Trade Administration

National Renewable Energy Laboratory, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3705, U.S. Department of Commerce, 14th and Constitution Ave., NW., Washington, DC.

Comments: None received. Decision: Approved. We know of no instruments of equivalent scientific value to the foreign instruments described below, for such purposes as these are intended to be used, that were being manufactured in the United States at the time of its order.

Docket Number: 09-032. Applicant: National Renewable Energy Laboratory, Golden, CO 80401. Instrument: MicroTime 200 Single Molecule Fluorescence Lifetime Imaging System. Manufacturer: PicoQuant GmBH, Germany. Intended Use: See notice at 74 FR 33207, July 10, 2009. Reasons: This instrument will be used in biomass characterization. The instrument will be capable of doing Fluorescence Lifetime Imaging, measuring Fluorescence Resonance Energy Transfer and Fluorescence Correlation Spectroscopy for single fluorescent molecules. No domestic sources make devices with similar capabilities.

Docket Number: 09-034. Applicant: University of Georgia, Athens, GA 30605. Instrument: Gasification Unit. Manufacturer: Termoquip Energia Alternative LTDA, Brazil. Intended Use: See notice at 74 FR 32207, July 10, 2009. Reasons: This instrument will be used to turn biomass into syngas, which is composed of hydrogen and carbon monoxide that can be catalytically upgraded to liquid fuel, chemicals and energy. No domestic sources make devices with similar capabilities.

Dated: August 4, 2009.
Gregory Campbell,
Acting Director, Subsidies Enforcement Office, Import Administration.

[FR Doc. E9-19093 Filed 8-7-09; 8:45 am]

BILLING CODE 3510-DS-P